NATIONAL AERONAUTICS AND SPACE ADMINISTRATION

[Notice: 13- 099]

NASA Advisory Council; Science Committee; Earth Science Subcommittee; Meeting

AGENCY: National Aeronautics and Space Administration.

ACTION: Notice of meeting.

SUMMARY: In accordance with the Federal Advisory Committee Act, Public Law 92-463, as amended, the National Aeronautics and Space Administration (NASA) announces a meeting of the Earth Science Subcommittee of the NASA Advisory Council (NAC). This Subcommittee reports to the Science Committee of the NAC. The meeting will be held for the purpose of soliciting, from the scientific community and other persons, scientific and technical information relevant to program planning.

DATES: Friday, September 20, 2013, 1:30 p.m. to 3:30 p.m., Local Time.

ADDRESSES: This meeting will take place telephonically. Any interested person may call the USA toll free conference call number 800-857-7040, pass code ESS, to participate in this meeting by telephone.

FOR FURTHER INFORMATION CONTACT: Ms. Marian Norris, Science Mission Directorate, NASA Headquarters, Washington, DC 20546, (202) 358-4452, fax (202) 358-3094, or mnorris@nasa.gov.

SUPPLEMENTARY INFORMATION: The primary topic on the agenda for the meeting is:- Earth Science program annual performance review according to the Government Performance and Results Act Modernization Act.

It is imperative that the meeting be held on this date to accommodate the scheduling priorities of the key participants.

Patricia D. Rausch,
Advisory Committee Management Officer, National Aeronautics and Space Administration.

[FR Doc. 2013-20529 Filed 8-21-13; 8:45 am]

BILLING CODE 7510-13-P